DEPARTMENT OF COMMERCE

Office of the Secretary

13 CFR Ch. III

15 CFR Subtitle A; Subtitle B, Chs. I, II, III, VII, VIII, IX, and XI

19 CFR Ch. III

37 CFR Chs. I, IV, and V

48 CFR Ch. 13

50 CFR Chs. II, III, IV, and VI

Spring 2021 Semiannual Agenda of Regulations

AGENCY: Office of the Secretary, Commerce.

ACTION: Semiannual regulatory agenda.

SUMMARY: In compliance with Executive Order 12866, entitled “Regulatory Planning and Review,” and the Regulatory Flexibility Act, as amended, the Department of Commerce (Commerce), in the spring and fall of each year, publishes in the Federal Register an agenda of regulations under development or review over the next 12 months. Rulemaking actions are grouped according to pre-rulemaking, proposed rules, final rules, long-term actions, and rulemaking actions completed since the fall 2020 agenda. The purpose of the Agenda is to provide information to the public on regulations that are currently under review, being proposed, or issued by Commerce. The agenda is intended to facilitate comments and views by interested members of the public.

Commerce's spring 2021 regulatory agenda includes regulatory activities that are expected to be conducted during the period May 1, 2021, through April 31, 2022.

FOR FURTHER INFORMATION CONTACT:

Specific: For additional information about specific regulatory actions listed in the agenda, contact the individual identified as the contact person.

General: Comments or inquiries of a general nature about the agenda should be directed to Asha Mathew, Chief Counsel for Regulation, Office of the Assistant General Counsel for Legislation and Regulation, U.S. Department of Commerce, Washington, DC 20230, telephone: 202-482-3151.

SUPPLEMENTARY INFORMATION: Commerce hereby publishes its spring 2021 Unified Agenda of Federal Regulatory and Deregulatory Actions pursuant to Executive Order 12866 and the Regulatory Flexibility Act, 5 U.S.C. 601 et seq. Executive Order 12866 requires agencies to publish an agenda of those regulations that are under consideration pursuant to this order. By memorandum of February 17, 2021, the Office of Management and Budget issued guidelines and procedures for the preparation and publication of the spring 2021 Unified Agenda. The Regulatory Flexibility Act requires agencies to publish, in the spring and fall of each year, a regulatory flexibility agenda that contains a brief description of the subject of any rule likely to have a significant economic impact on a substantial number of small entities.

Beginning with the fall 2007 edition, the internet became the basic means for disseminating the Unified Agenda. The complete Unified Agenda is available online at www.reginfo.gov, in a format that offers users a greatly enhanced ability to obtain information from the Agenda database.

In this edition of Commerce's regulatory agenda, a list of the most important significant regulatory and deregulatory actions and a Statement of Regulatory Priorities are included in the Regulatory Plan, which appears in both the online Unified Agenda and in part II of the issue of the Federal Register that includes the Unified Agenda.

Because publication in the Federal Register is mandated for the regulatory flexibility agendas required by the Regulatory Flexibility Act, Commerce's printed agenda entries include only:

(1) Rules that are in the Agency's regulatory flexibility agenda, in accordance with the Regulatory Flexibility Act, because they are likely to have a significant economic impact on a substantial number of small entities; and

(2) Rules that the Agency has identified for periodic review under section 610 of the Regulatory Flexibility Act.

Printing of these entries is limited to fields that contain information required by the Regulatory Flexibility Act's Agenda requirements. Additional information on these entries is available in the Unified Agenda published on the internet. In addition, for fall editions of the Agenda, Commerce's entire Regulatory Plan will continue to be printed in the Federal Register.

Within Commerce, the Office of the Secretary and various operating units may issue regulations. Among these operating units, the National Oceanic and Atmospheric Administration (NOAA), the Bureau of Industry and Security, and the Patent and Trademark Office issue the greatest share of Commerce's regulations.

A large number of regulatory actions reported in the Agenda deal with fishery management programs of NOAA's National Marine Fisheries Service (NMFS). To avoid repetition of programs and definitions, as well as to provide some understanding of the technical and institutional elements of NMFS' programs, an “Explanation of Information Contained in NMFS Regulatory Entries” is provided below.

Explanation of Information Contained in NMFS Regulatory Entries

The Magnuson-Stevens Fishery Conservation and Management Act (16 U.S.C. 1801 et seq.) (the Act) governs the management of fisheries within the Exclusive Economic Zone of the United States (EEZ). The EEZ refers to those waters from the outer edge of the State boundaries, generally 3 nautical miles, to a distance of 200 nautical miles. For fisheries that require conservation and management measures, eight Regional Fishery Management Councils (Councils) prepare and submit to NMFS Fishery Management Plans (FMPs) for the fisheries within their respective areas in the EEZ. Membership of these Councils is comprised of representatives of the commercial and recreational fishing sectors in addition to environmental, academic, and government interests. Council members are nominated by the governors and ultimately appointed by the Secretary of Commerce. The Councils are required by law to conduct public hearings on the development of FMPs and FMP amendments. Consistent with applicable law, environmental and other analyses are developed that consider alternatives to proposed actions.

Pursuant to the Magnuson-Stevens Act, the Councils also submit to NMFS proposed regulations they deem necessary or appropriate to implement FMPs. The proposed regulations, FMPs, and FMP amendments are subject to review and approval by NMFS, based on consistency with the Magnuson-Stevens Act and other applicable law. The Council process for developing FMPs and amendments makes it difficult for NMFS to determine the significance and timing of some regulatory actions under consideration by the Councils at the time the semiannual regulatory agenda is published.

Commerce's spring 2021 regulatory agenda follows.

This document of the Department of Commerce was signed on June 22, by Quentin Palfrey, Deputy General Counsel. That document with the original signature and date is maintained by the Department of Commerce. For administrative purposes only, and in compliance with requirements of the Office of the Federal Register, the undersigned Department of Commerce Federal Register Liaison Officer has been authorized to sign and submit the document in electronic format for publication, as an official document of the Department of Commerce. This administrative process in no way alters the legal effect of this document upon publication in the Federal Register.

Signed in Washington, DC, on June 23, 2021.
Asha Mathew,
Federal Register Liaison Officer, U.S. Department of Commerce.

General Administration—Proposed Rule Stage
Sequence No. | Title | Regulation Identifier No.
27 | Securing the Information and Communications Technology and Services Supply Chain: Licensing Procedures | 0605-AA60

General Administration—Final Rule Stage
Sequence No. | Title | Regulation Identifier No.
28 | Concrete Masonry Products Research, Education, and Promotion | 0605-AA53

General Administration—Completed Actions
Sequence No. | Title | Regulation Identifier No.
29 | Concrete Masonry Products Research, Education, and Promotion Information Order; Referendum Procedures | 0605-AA56

International Trade Administration—Final Rule Stage
Sequence No. | Title | Regulation Identifier No.
30 | Modifications to Regulations to Improve Administration and Enforcement of Antidumping and Countervailing Duty Laws | 0625-AB10

National Oceanic and Atmospheric Administration—Prerule Stage
Sequence No. | Title | Regulation Identifier No.
31 | Reduce Incidental Bycatch and Mortality of Sea Turtles in the Southeast U.S. Shrimp Fisheries | 0648-BK49

National Oceanic and Atmospheric Administration—Proposed Rule Stage
Sequence No. | Title | Regulation Identifier No.
32 | Comprehensive Fishery Management Plan for Puerto Rico, Comprehensive Fishery Management Plan for St. Croix, Comprehensive Fishery Management Plan for St. Thomas/St. John | 0648-BD32
33 | International Fisheries; Western and Central Pacific Fisheries for Highly Migratory Species; Treatment of U.S. Purse Seine Fishing With Respect to U.S. Territories | 0648-BF41
34 | International Fisheries; South Pacific Tuna Fisheries; Implementation of Amendments to the South Pacific Tuna Treaty | 0648-BG04
35 | Illegal, Unregulated, and Unreported Fishing; Fisheries Enforcement; High Seas Driftnet Fishing Moratorium Protection Act | 0648-BG11
36 | Regulatory Amendment to the Pacific Coast Groundfish Fishery Management Plan to Implement an Electronic Monitoring Program for Bottom Trawl and Non-Whiting Midwater Trawl Vessels | 0648-BH70
37 | Atlantic Highly Migratory Species; Research and Data Collection in Support of Spatial Fisheries Management | 0648-BI10
38 | Establish National Insurance Requirements for Observer Providers | 0648-BJ33
39 | Amendment 23 to the Northeast Multispecies Fishery Management Plan | 0648-BK17
40 | Framework Adjustment 61 to the Northeast Multispecies Fishery Management Plan | 0648-BK24
41 | Amendment 14 to the Fishery Management Plan for the Salmon Fisheries in the EEZ Off Alaska | 0648-BK31
42 | Establishment of Time-Area Closures for Hawaiian Spinner Dolphins Under the Marine Mammal Protection Act | 0648-BK04

National Oceanic and Atmospheric Administration—Final Rule Stage
Sequence No. | Title | Regulation Identifier No.
43 | International Fisheries; Western and Central Pacific Fisheries for Highly Migratory Species; Requirements to Safeguard Fishery Observers | 0648-BG66
44 | Omnibus Deep-Sea Coral Amendment | 0648-BH67
45 | Generic Amendment to the Fishery Management Plans for the Reef Fish Resources of the Gulf of Mexico and Coastal Migratory Pelagic Resources in the Gulf of Mexico and Atlantic Region | 0648-BH72
46 | Magnuson-Stevens Fisheries Conservation and Management Act; Traceability Information Program for Seafood | 0648-BH87
47 | Modification of Multi-Day Trip Possession Limits for Federally-Permitted Charter/Headboat Vessels in the Fishery Management Plans (FMP) in the Gulf of Mexico | 0648-BJ60
48 | Framework Adjustment 8 to the Atlantic Herring Fishery Management Plan | 0648-BK11
49 | Framework Adjustment 33 to the Atlantic Sea Scallop Fishery Management Plan | 0648-BK51
50 | Magnuson-Stevens Act Provisions; Fisheries Off West Coast States; Emergency Action to Change Seasonal Processing Limitations in the At-sea Whiting Fishery | 0648-BK52
51 | Reducing Disturbances to Hawaiian Spinner Dolphins From Human Interactions | 0648-AU02
52 | Designation of Critical Habitat for the Arctic Ringed Seal | 0648-BC56
53 | Amendment and Updates to the Pelagic Longline Take Reduction Plan | 0648-BF90
54 | Designation of Critical Habitat for the Threatened Caribbean Corals | 0648-BG26
55 | Revision to Critical Habitat Designation for Endangered Southern Resident Killer Whales | 0648-BH95
56 | Atlantic Large Whale Take Reduction Plan Modifications to Reduce Serious Injury and Mortality of Large Whales in Commercial Trap/Pot Fisheries Along the U.S. East Coast | 0648-BJ09
57 | Designation of Critical Habitat for Threatened Indo-Pacific Reef-Building Corals | 0648-BJ52
58 | Designation of Critical Habitat for the Beringia Distinct Population Segment of the Bearded Seal | 0648-BJ65
59 | Wisconsin-Lake Michigan National Marine Sanctuary Designation | 0648-BG01

National Oceanic and Atmospheric Administration—Long-Term Actions
Sequence No. | Title | Regulation Identifier No.
60 | Implementation of a Program for Transshipments by Large Scale Fishing Vessels in the Eastern Pacific Ocean | 0648-BD59
61 | Amendment 111 to the Fishery Management Plan for Groundfish of the Gulf of Alaska to Reauthorize the Central Gulf of Alaska Rockfish Program | 0648-BJ73

National Oceanic and Atmospheric Administration—Completed Actions
Sequence No. | Title | Regulation Identifier No.
62 | Area of Overlap Between the Convention Areas of the Inter-American Tropical Tuna Commission and the Western and Central Pacific Fisheries Commission | 0648-BH59
63 | Atlantic Highly Migratory Species; Regulatory Amendment for the Management of Atlantic Swordfish | 0648-BI09
64 | Amendment 8 to the Atlantic Herring Fishery Management Plan | 0648-BI80
65 | Amendment 21 to the Summer Flounder, Scup, and Black Sea Bass Fishery Management Plan | 0648-BJ18
66 | Salmon Bycatch Minimization in the Pacific Coast Groundfish Fishery | 0648-BJ50
67 | International Fisheries; Pacific Tuna Fisheries; Fishing Restrictions for Tropical Tuna in the Eastern Pacific Ocean for 2021 | 0648-BK08
68 | Taking and Importing Marine Mammals: Taking Marine Mammals Incidental to Geophysical Surveys Related to Oil and Gas Activities in the Gulf of Mexico | 0648-BB38
69 | Designation of Critical Habitat for the Mexico, Central American, and Western Pacific Distinct Population Segments of Humpback Whales Under the Endangered Species Act | 0648-BI06

Patent and Trademark Office—Proposed Rule Stage
Sequence No. | Title | Regulation Identifier No.
70 | Changes To Implement Provisions of the Trademark Modernization Act of 2020 | 0651-AD55

Patent and Trademark Office—Completed Actions
Sequence No. | Title | Regulation Identifier No.
71 | Trademark Fee Adjustment | 0651-AD42

DEPARTMENT OF COMMERCE (DOC)

General Administration (ADMIN)

Proposed Rule Stage

27. • Securing the Information and Communications Technology and Services Supply Chain: Licensing Procedures

Legal Authority: Not Yet Determined

Abstract: The Department is seeking public input regarding establishing a licensing process for entities to seek pre-approval before engaging in or continuing to engage in potentially regulated ICTS Transactions under the “Securing the Information and Communications Technology and Services Supply Chain” rule.

Timetable:

Action | Date | FR Cite
ANPRM | 03/29/21 | 86 FR 16312
ANPRM Comment Period End | 04/28/21
NPRM | 10/00/21

Regulatory Flexibility Analysis Required: Yes.

Agency Contact: Joe Bartles, Department of Commerce, 1401 Constitution Avenue NW, Washington, DC 20230, Phone: 202 482-3084, Email: jbartles@doc.gov.

RIN: 0605-AA60

DEPARTMENT OF COMMERCE (DOC)

General Administration (ADMIN)

Final Rule Stage

28. Concrete Masonry Products Research, Education, and Promotion

Legal Authority: 15 U.S.C. 8701 et seq.

Abstract: The Concrete Masonry Products Research, Education, and Promotion Act of 2018 (Act) (15 U.S.C. 8701 et seq.) authorizes the establishment of an orderly program for a program of research, education, and promotion, including funds for marketing and market research activities, that is designed to promote the use of concrete masonry products in construction and building (a checkoff program). The Act allows industry to submit a proposed order establishing such a program. If the Secretary determines that such a proposed order is consistent with and will effectuate the purpose of the Act, the Secretary is directed to publish the proposed order in the Federal Register not later than 90 days after receiving the order.

Timetable:

Action | Date | FR Cite
NPRM | 08/24/20 | 85 FR 52059
NPRM Comment Period End | 10/08/20
Final Action | 07/00/21

Regulatory Flexibility Analysis Required: Yes.

Agency Contact: Asha Mathew, Department of Commerce, 1401 Constitution Avenue NW, Washington, DC 20230, Phone: 202 306-0487, Email: amathew@doc.gov.

RIN: 0605-AA53

DEPARTMENT OF COMMERCE (DOC)

General Administration (ADMIN)

Completed Actions

29. Concrete Masonry Products Research, Education, and Promotion Information Order; Referendum Procedures

Legal Authority: 15 U.S.C. 8701 et seq.

Abstract: The Concrete Masonry Products Research, Education, and Promotion Act of 2018 (Act) (15 U.S.C. 8701 et seq.) authorizes the establishment of an orderly program for a program of research, education, and promotion, including funds for marketing and market research activities, that is designed to promote the use of concrete masonry products in construction and building (a checkoff program). The Act allows industry to submit a proposed order establishing such a program. If the Secretary determines that such a proposed order is consistent with and will effectuate the purpose of the Act, this rule will effectuate the referendum process.

Timetable:

Action | Date | FR Cite
NPRM | 10/15/20 | 85 FR 65288
NPRM Comment Period End | 11/16/20
Final Action | 05/03/21 | 86 FR 23271
Final Action Effective | 05/03/21

Regulatory Flexibility Analysis Required: Yes.

Agency Contact: Asha Mathew, Department of Commerce, 1401 Constitution Avenue NW, Washington, DC 20230, Phone: 202 306-0487, Email: amathew@doc.gov.

RIN: 0605-AA56

DEPARTMENT OF COMMERCE (DOC)

International Trade Administration (ITA)

Final Rule Stage

30. Modifications to Regulations To Improve Administration and Enforcement of Antidumping and Countervailing Duty Laws

Legal Authority: 19 U.S.C. 1671 et seq.; Pub. L. 114-125, sec. 421

Abstract: Pursuant to its authority under Title VII of the Tariff Act of 1930, as amended (the Act), the Department of Commerce (Commerce) is considering issuing a final rule, adopting the proposed rule, to modify its regulations under part 351 of title 19 to improve administration and enforcement of the antidumping duty (AD) and countervailing duty (CVD) laws. Specifically, Commerce proposed to modify its regulation concerning the time for submission of comments pertaining to industry support in AD and CVD proceedings; to modify its regulation regarding new shipper reviews; to modify its regulation concerning scope matters in AD and CVD proceedings; to promulgate a new regulation concerning circumvention of AD and CVD orders; to promulgate a new regulation concerning covered merchandise referrals received from U.S. Customs and Border Protection (CBP); to promulgate a new regulation pertaining to Commerce requests for certifications from interested parties to establish whether merchandise is subject to an AD or CVD order; and to modify its regulation regarding importer reimbursement certifications filed with CBP. Finally, Commerce proposed to modify its regulations regarding letters of appearance in AD and CVD proceedings and importer filing requirements for access to business proprietary information.

Timetable:

Action | Date | FR Cite
NPRM | 08/13/20 | 85 FR 49472
Extension of Comment Period | 09/10/20 | 85 FR 55801
NPRM Comment Period End | 09/14/20
Extension of Comment Period End | 09/28/20
Final Action | 07/00/21

Regulatory Flexibility Analysis Required: Yes.

Agency Contact: Jessica Link, Department of Commerce, International Trade Administration, 1401 Constitution Avenue NW, Washington, DC 20230, Phone: 202 482-1411, Email: jessica.link@trade.gov.

RIN: 0625-AB10

DEPARTMENT OF COMMERCE (DOC)

National Oceanic and Atmospheric Administration (NOAA)

Prerule Stage

National Marine Fisheries Service

31. • Reduce Incidental Bycatch and Mortality of Sea Turtles in the Southeast U.S. Shrimp Fisheries

Legal Authority: 16 U.S.C. 1531 et seq.

Abstract: As a result of new information on sea turtle bycatch in shrimp trawls and turtle excluder device (TED) testing, NMFS conducted an evaluation of the southeast U.S. shrimp fisheries that resulted in a final environmental impact statement (FEIS) in November 2019 in support of a rule to withdraw the alternative tow time restriction and require TEDs in skimmer trawl vessels 40 feet and greater in length. The rule was promulgated under the authority of the Endangered Species Act (ESA) and its purpose was to aid in the protection and recovery of listed sea turtle populations by reducing incidental bycatch and mortality of small sea turtles in the Southeastern U.S. shrimp fisheries. Additional TED testing has resulted in producing TED designs that are effective on skimmer trawl vessels less than 40 feet in length. Therefore, NMFS is considering additional ESA rulemaking to protect and conserve threatened and endangered sea turtles in the southeast U.S. shrimp fisheries.

Timetable:

Action | Date | FR Cite
ANPRM | 04/20/21 | 86 FR 20475
ANPRM Comment Period End | 05/20/21
NPRM | 07/00/21

Regulatory Flexibility Analysis Required: Yes.

Agency Contact: Andrew J. Strelcheck, Acting Regional Administrator, Southeast Region, Department of Commerce, National Oceanic and Atmospheric Administration, 263 13th Avenue South, St. Petersburg, FL 33701, Phone: 727 824-5305, Email: andy.strelcheck@noaa.gov.

RIN: 0648-BK49

DEPARTMENT OF COMMERCE (DOC)

National Oceanic and Atmospheric Administration (NOAA)

Proposed Rule Stage

National Marine Fisheries Service

32. Comprehensive Fishery Management Plan for Puerto Rico, Comprehensive Fishery Management Plan for St. Croix, Comprehensive Fishery Management Plan for St. Thomas/St. John

Legal Authority: 16 U.S.C. 1801 et seq.

Abstract: In response to a recommendation of the Caribbean Fishery Management Council, this action would establish three new Fishery Management Plans (FMPs) (Puerto Rico FMP, St. Thomas/St. John FMP and St. Croix FMP) and repeal and replace the existing U.S. Caribbean-wide FMPs (the FMP for the Reef Fish Fishery of Puerto Rico and the U.S. Virgin Islands (USVI), the FMP for the Spiny Lobster Fishery of Puerto Rico and the USVI, the FMP for Queen Conch Resources of Puerto Rico and the USVI, and the FMP for the Corals and Reef Associated Plants and Invertebrates of Puerto Rico and the USVI). For each of the Puerto Rico, St. Thomas/St. John, and St. Croix FMPs, the action would also modify the composition of the stocks to be managed; organize those stocks for effective management; establish status determination criteria, management reference points, and accountability measures for managed stocks; identify essential fish habitat for stocks new to management; and establish framework measures.

Timetable:

Action | Date | FR Cite
Notice of Availability | 06/26/20 | 85 FR 38350
NPRM | 06/00/21

Regulatory Flexibility Analysis Required: Yes.

Agency Contact: Andrew J. Strelcheck, Acting Regional Administrator, Southeast Region, Department of Commerce, National Oceanic and Atmospheric Administration, 263 13th Avenue South, St. Petersburg, FL 33701, Phone: 727 824-5305, Email: andy.strelcheck@noaa.gov.

RIN: 0648-BD32

33. International Fisheries; Western and Central Pacific Fisheries for Highly Migratory Species; Treatment of U.S. Purse Seine Fishing With Respect to U.S. Territories

Legal Authority: 16 U.S.C. 6901 et seq.

Abstract: This action would establish rules and/or procedures to address the treatment of U.S.-flagged purse seine vessels and their fishing activities in regulations issued by the National Marine Fisheries Service that implement decisions of the Commission for the Conservation and Management of Highly Migratory Fish Stocks in the Western and Central Pacific Ocean (Commission), of which the United States is a member. Under the Western and Central Pacific Fisheries Convention Implementation Act, the National Marine Fisheries Service exercises broad discretion when determining how it implements Commission decisions, such as purse seine fishing restrictions. The National Marine Fisheries Service intends to examine the potential impacts of the domestic implementation of Commission decisions, such as purse seine fishing restrictions, on the economies of the U.S. territories that participate in the Commission, and examine the connectivity between the activities of U.S.-flagged purse seine fishing vessels and the economies of the territories. Based on that and other information, the National Marine Fisheries Service might propose regulations that mitigate adverse economic impacts of purse seine fishing restrictions on the U.S. territories and/or that, in the context of the Convention on the Conservation and Management of Highly Migratory Fish Stocks in the Western and Central Pacific Ocean (Convention), recognize that one or more of the U.S. territories have their own purse seine fisheries that are distinct from the purse seine fishery of the United States and that are consequently subject to special provisions of the Convention and of Commission decisions.

Timetable:

Action | Date | FR Cite
ANPRM | 10/23/15 | 80 FR 64382
ANPRM Comment Period End | 11/23/15
NPRM | 02/00/22

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BF41

34. International Fisheries; South Pacific Tuna Fisheries; Implementation of Amendments to the South Pacific Tuna Treaty

Legal Authority: 16 U.S.C. 973 et seq.

Abstract: Under authority of the South Pacific Tuna Act of 1988, this rule would implement recent amendments to the Treaty on Fisheries between the Governments of Certain Pacific Island States and the Government of the United States of America (also known as the South Pacific Tuna Treaty). The rule would include modification to the procedures used to request licenses for U.S. vessels in the western and central Pacific Ocean purse seine fishery, including changing the annual licensing period from June-to-June to the calendar year, and modifications to existing reporting requirements for purse seine vessels fishing in the western and central Pacific Ocean. The rule would implement only those aspects of the Treaty amendments that can be implemented under the existing South Pacific Tuna Act.

Timetable:

Action | Date | FR Cite
NPRM | 09/00/21

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BG04

35. Illegal, Unregulated, and Unreported Fishing; Fisheries Enforcement; High Seas Driftnet Fishing Moratorium Protection Act

Legal Authority: Pub. L. 114-81

Abstract: This proposed rule would make conforming amendments to regulations implementing the various statutes amended by the Illegal, Unreported and Unregulated Fishing Enforcement Act of 2015 (Pub. L. 114-81). The Act amends several regional fishery management organization implementing statutes as well as the High Seas Driftnet Fishing Moratorium Protection Act. It also provides authority to implement two new international agreements under the Antigua Convention, which amends the Convention for the establishment of an Inter-American Tropical Tuna Commission, and the United Nations Food and Agriculture Organization Agreement on Port State Measures to Prevent, Deter, and Eliminate Illegal, Unreported and Unregulated Fishing (Port State Measures Agreement), which restricts the entry into U.S. ports by foreign fishing vessels that are known to be or are suspected of engaging in illegal, unreported, and unregulated fishing. This proposed rule would also implement the Port State Measures Agreement. To that end, this proposed rule would require the collection of certain information from foreign fishing vessels requesting permission to use U.S. ports. It also includes procedures to designate and publicize the ports to which foreign fishing vessels may seek entry and procedures for conducting inspections of these foreign vessels accessing U.S. ports. Further, the rule would establish procedures for notification of: The denial of port entry or port services for a foreign vessel, the withdrawal of the denial of port services if applicable, the taking of enforcement action with respect to a foreign vessel, or the results of any inspection of a foreign vessel to the flag nation of the vessel and other competent authorities as appropriate.

Timetable:

Action | Date | FR Cite
NPRM | 07/00/21

Regulatory Flexibility Analysis Required: Yes.

Agency Contact: Alexa Cole, Director, Office of International Affairs and Seafood Inspection, Department of Commerce, National Oceanic and Atmospheric Administration, 1315 East-West Highway, Silver Spring, MD 20910, Phone: 301 427-8286, Email: alexa.cole@noaa.gov.

RIN: 0648-BG11

36. Regulatory Amendment to the Pacific Coast Groundfish Fishery Management Plan To Implement an Electronic Monitoring Program for Bottom Trawl and Non-Whiting Midwater Trawl Vessels

Legal Authority: 16 U.S.C. 1801 et seq.

Abstract: The proposed action would implement a regulatory amendment to the Pacific Fishery Management Council's Pacific Coast Groundfish Fishery Management Plan to allow bottom trawl and midwater trawl vessels targeting non-whiting species the option to use electronic monitoring (video cameras and associated sensors) in place of observers to meet requirements for 100-percent observer coverage. By allowing vessels the option to use electronic monitoring to meet monitoring requirements, this action is intended to increase operational flexibility and reduce monitoring costs for the fleet.

Timetable:

Action | Date | FR Cite
NPRM | 05/00/21 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BH70

37. Atlantic Highly Migratory Species; Research and Data Collection in Support of Spatial Fisheries Management

Legal Authority: 16 U.S.C. 1801 et seq.

Abstract: This rulemaking would address conducting research in areas currently closed to fishing for Atlantic highly migratory species (HMS)—during various times or by certain gear—to collect fishery-dependent data. A number of time/area closures or gear-restricted areas have been implemented over the years through various rulemakings, limiting fishing for Atlantic highly migratory species in those areas for a variety of reasons including reducing bycatch. These time/area closures have been implemented in consultation with the HMS Advisory Panel to protect species consistent with the Magnuson-Stevens Fisheries Conservation and Management Act (e.g., to reduce bycatch in the pelagic longline fishery off the east coast of Florida), the Endangered Species Act (e.g., to protect sea turtles in the North Atlantic), and the Atlantic Tunas Convention Act (e.g., to protect spawning bluefin tuna in the Gulf of Mexico). Fishery-dependent data supports effective fisheries management, and areas that restrict fishing effort often have a commensurate decrease in fishery-dependent data collection. Programs to facilitate research and data collection, such as those that would be covered by this rulemaking, could assess the efficacy of closed areas, improve sustainable management of highly migratory species, and may provide benefits to commercial and recreational fishermen.

Timetable:

Action | Date | FR Cite
NPRM | 09/00/21 |

Regulatory Flexibility Analysis Required: Yes.

Agency Contact: Kelly Denit, Director, Office of Sustainable Fisheries, Department of Commerce, National Oceanic and Atmospheric Administration, 1315 East-West Highway, Room 13362, Silver Spring, MD 20901, Phone: 301 427-8500, Email: kelly.denit@noaa.gov.

RIN: 0648-BI10

38. Establish National Insurance Requirements for Observer Providers

Legal Authority: 16 U.S.C. 1855(d)

Abstract: NMFS is proposing to establish uniform, nationally applicable minimum insurance requirements for companies that provide observer or at-sea monitor services for federally managed fisheries subject to monitoring requirements. This action would supersede outdated or inappropriate regulatory insurance requirements thereby easing the regulatory and cost burden for observer/at-sea monitor providers. Additionally, this action would mitigate potential liability risks associated with observer and at-sea monitor deployments for vessel owners and shore side processors that are subject to monitoring requirements.

Timetable:

Action | Date | FR Cite
NPRM | 07/00/21 |

Regulatory Flexibility Analysis Required: Yes.

Agency Contact: Evan Howell, Director, Office of Science and Technology, National Marine Fisheries Service, Department of Commerce, National Oceanic and Atmospheric Administration, 1315 East-West Highway, Silver Spring, MD 20910, Phone: 301 427-8100, Email: evan.howell@noaa.gov.

RIN: 0648-BJ33

39. • Amendment 23 to the Northeast Multispecies Fishery Management Plan

Legal Authority: 16 U.S.C. 1801 et seq.

Abstract: This action proposes measures recommended by the New England Fishery Management Council in Amendment 23 to the Northeast Multispecies Fishery Management Plan. The Council developed this action to implement measures to improve the reliability and accountability of catch reporting in the commercial groundfish fishery to ensure there is a precise and accurate representation of catch (landings and discards). The purpose of this action is to adjust the existing industry-funded monitoring program to improve accounting and accuracy of collected catch data. Specifically, this action would set a fixed target coverage rate as a percentage of fishing trips to replace the current annual method for calculating a coverage target. This action would exclude from the monitoring requirement all trips in geographic areas with low groundfish catch; allow for increased coverage when federal funding is available to reimburse industry's costs; set a baseline coverage target for which there is no reimbursement for industry's costs in the absence of federal funding; approve electronic monitoring technologies as an alternative to human at-sea monitors; require periodic evaluation of the monitoring program; allow for waivers from monitoring for good cause; and grant authority to the Northeast Regional Administrator to streamline industry's reporting requirements.

Timetable:

Action | Date | FR Cite
NPRM | 06/00/21 |

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov

RIN: 0648-BK17

40. • Framework Adjustment 61 to the Northeast Multispecies Fishery Management Plan

Legal Authority: 16 U.S.C. 1801 et seq.

Abstract: In response to action by the New England Fishery Management Council due to new scientific information, the proposed action would implement management measures included in Framework Adjustment 61 to the Northeast Multispecies Fishery Management Plan (Framework 61). The proposed action would set fishing years 2021-2023 specifications for about half of groundfish stocks, and fishing year 2021 total allowable catches (TAC) for the three U.S./Canada stocks Eastern Georges Bank cod, Eastern Georges Bank haddock, and Georges Bank yellowtail flounder. This action would also address white hake rebuilding measures and potentially create a universal sector exemption to allow fishing for redfish, pollock, and haddock.

Timetable:

Action | Date | FR Cite
NPRM | 05/00/21 |

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov

RIN: 0648-BK24

41. • Amendment 14 to the Fishery Management Plan for the Salmon Fisheries in the EEZ Off Alaska

Legal Authority: 16 U.S.C. 1801 et seq.

Abstract: This action would modify the Fishery Management Plan for the Salmon Fisheries in the EEZ off Alaska (FMP) and implement regulations to manage the EEZ waters of Cook Inlet under the FMP and prohibit commercial fishing for salmon in this area. Currently, this area is excluded from the FMP and the State of Alaska manages commercial fishing for salmon in this area. If approved, this action would result in all commercial salmon fishing in Cook Inlet occurring within waters of the State of Alaska under State management plans. The North Pacific Fishery Management Council (Council) determined that this action is consistent with the Council's longstanding policy to facilitate management of salmon fishing by the State of Alaska and that the State is the authority best suited for managing Alaska salmon fisheries given its existing infrastructure and expertise. The Council considered, but did not select, two other action alternatives that would delegate management of the Cook Inlet EEZ to the State of Alaska, or establish Council and NMFS management of the commercial salmon fishery within the area. The Council did not select either of these alternatives because the State of Alaska was unwilling to accept delegation of management authority, and due to the substantial increase in management complexity and cost without corresponding benefits of both alternatives.

Timetable:

Action | Date | FR Cite
NPRM | 05/00/21 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BK31

42. Establishment of Time-Area Closures for Hawaiian Spinner Dolphins Under the Marine Mammal Protection Act

Legal Authority: 16 U.S.C. 1382 et seq.

Abstract: This rulemaking action under the Marine Mammal Protection Act (MMPA) proposes to establish mandatory time-area closures of Hawaiian spinner dolphins' essential daytime habitats at five selected sites in the Main Hawaiian Islands (MHI). In considering public comments in response to a separate proposed rule related to spinner dolphin interactions (81 FR 57854), NMFS intends these regulatory measures to prevent take of Hawaiian spinner dolphins from occurring in inshore marine areas at essential daytime habitats, and where high levels of disturbance from human activities are most prevalent.

Timetable:

Action | Date | FR Cite
NPRM | 05/00/21 |

Regulatory Flexibility Analysis Required: Yes.

Agency Contact: Catherine Marzin, Acting Director, Office of Protected Resources, Department of Commerce, National Oceanic and Atmospheric Administration, 1315 East-West Highway, Silver Spring, MD 20910, Phone: 301 427-8400.

RIN: 0648-BK04

DEPARTMENT OF COMMERCE (DOC)

National Oceanic and Atmospheric Administration (NOAA)

Final Rule Stage

National Marine Fisheries Service

43. International Fisheries; Western and Central Pacific Fisheries for Highly Migratory Species; Requirements To Safeguard Fishery Observers

Legal Authority: 16 U.S.C. 6901 et seq.

Abstract: This rule would establish requirements to enhance the safety of fishery observers on highly migratory species fishing vessels. This rule would be issued under the authority of the Western and Central Pacific Fisheries Convention Implementation Act, and pursuant to decisions made by the Commission for the Conservation and Management of Highly Migratory Fish Stocks in the Western and Central Pacific Ocean. This action is necessary for the United States to satisfy its obligations under the Convention on the Conservation and Management of Highly Migratory Fish Stocks in the Western and Central Pacific Ocean, to which it is a Contracting Party.

Timetable:

Action | Date | FR Cite
NPRM | 10/20/20 | 85 FR 66513
NPRM Comment Period End | 11/19/20 |
Final Action | 05/00/21 |

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BG66

44. Omnibus Deep-Sea Coral Amendment

Legal Authority: 16 U.S.C. 1801 et seq.

Abstract: This action would implement the New England Fishery Management Council's Omnibus Deep-Sea Coral Amendment. The Amendment would implement measures that reduce impacts of fishing gear on deep-sea corals in the Gulf of Maine and on the outer continental shelf. In doing so, this action would prohibit the use of mobile bottom-tending gear in two areas in the Gulf of Maine (Mount Desert Rock and Outer Schoodic Ridge), and it would prohibit the use of all gear (with an exception for red crab pots) along the outer continental shelf in waters deeper than a minimum of 600 meters.

Timetable:

Action | Date | FR Cite
Notice of Availability | 08/26/19 | 84 FR 44596
NPRM | 01/03/20 | 85 FR 285
NPRM Comment Period End | 02/18/20 |
Final Action | 06/00/21 |

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BH67

45. Generic Amendment to the Fishery Management Plans for the Reef Fish Resources of the Gulf of Mexico and Coastal Migratory Pelagic Resources in the Gulf of Mexico and Atlantic Region

Legal Authority: 16 U.S.C. 1801 et seq.

Abstract: This action, recommended by the Gulf of Mexico Fishery Management Council, would modify data reporting for owners or operators of federally permitted for-hire vessels (charter vessels and headboats) in the Gulf of Mexico, requiring them to declare the type of trip (for-hire or other) prior to departing for any trip, and electronically submit trip-level reports prior to off-loading fish at the end of each fishing trip. The declaration would include the expected return time and landing location. Landing reports would include information about catch and effort during the trip. The action would also require that these reports be submitted via approved hardware that includes a global positioning system attached to the vessel that is capable, at a minimum, of archiving global positioning system locations. This requirement would not preclude the use of global positioning system devices that provide real-time location data, such as the currently approved vessel monitoring systems.

Timetable:

Action | Date | FR Cite
Notice of Availability | 06/21/18 | 83 FR 28797
NPRM | 10/26/18 | 83 FR 54069
Correction | 11/08/18 | 83 FR 55850
Comment Period Extended | 11/20/18 | 83 FR 58522
NPRM Comment Period End | 11/26/18 |
Comment Period Extended End | 01/09/19 |
Final Rule | 07/21/20 | 85 FR 44005
Final Rule Effective | 01/05/21 |
Final Action; Announcement of Effectiveness for Delayed Provisions | 07/00/21 |

Regulatory Flexibility Analysis Required: Yes.

Agency Contact: Andrew J. Strelcheck, Acting Regional Administrator, Southeast Region, Department of Commerce, National Oceanic and Atmospheric Administration, 263 13th Avenue South, St. Petersburg, FL 33701, Phone: 727 824-5305, Email: andy.strelcheck@noaa.gov.

RIN: 0648-BH72

46. Magnuson-Stevens Fisheries Conservation and Management Act; Traceability Information Program for Seafood

Legal Authority: 16 U.S.C. 1801 et seq.; Pub. L. 115-141

Abstract: On December 9, 2016, NMFS issued a final rule that established a risk-based traceability program to track seafood from harvest to entry into U.S. commerce. The final rule included, for designated priority fish species, import permitting and reporting requirements to provide for traceability of seafood products offered for entry into the U.S. supply chain, and to ensure that these products were lawfully acquired and are properly represented. Shrimp and abalone products were included in the final rule to implement the Seafood Import Monitoring Program, but compliance with Seafood Import Monitoring Program requirements for those species was stayed indefinitely due to the disparity between Federal reporting programs for domestic aquaculture of shrimp and abalone products relative to the requirements that would apply to imports under Seafood Import Monitoring Program. In section 539 of the Consolidated Appropriations Act, 2018, Congress mandated lifting the stay on inclusion of shrimp and abalone in Seafood Import Monitoring Program and authorized the Secretary of Commerce to require comparable reporting and recordkeeping requirements for domestic aquaculture of shrimp and abalone. This rulemaking would establish permitting, reporting and recordkeeping requirements for domestic producers of shrimp and abalone from the point of production to entry into commerce.

Timetable:

Action | Date | FR Cite
NPRM | 10/11/18 | 83 FR 51426
NPRM Comment Period End | 11/26/18 |
Final Action | 12/00/21 |

Regulatory Flexibility Analysis Required: Yes.

Agency Contact: Alexa Cole, Director, Office of International Affairs and Seafood Inspection, Department of Commerce, National Oceanic and Atmospheric Administration, 1315 East-West Highway, Silver Spring, MD 20910, Phone: 301 427-8286, Email: alexa.cole@noaa.gov.

RIN: 0648-BH87

47. Modification of Multi-Day Trip Possession Limits for Federally-Permitted Charter/Headboat Vessels in the Fishery Management Plans (FMP) in the Gulf of Mexico

Legal Authority: 16 U.S.C. 1801 et seq.

Abstract: This rule would promote efficiency in the utilization of the reef fish and CMP resources and a potential decrease in regulatory discards by providing the owners and operators of federally permitted for-hire vessels greater flexibility in determining when to allow passengers to retain the possession limit on multi-day trips. The rule would modify the on-board possession limit for federal for-hire trips in the Gulf of Mexico, which currently allows anglers to retain two daily bag limits on a trip more than 24 hours, after the first 24 hours of that trip. The rule would increase the required trip duration to more than 30 hours, but would allow anglers to retain the second daily bag limit at any time after the federal for-hire vessel leaves the dock. All other requirements to retain the possession limit would be unchanged. In addition, this rule would modify the language in 622.21(a)(3)(iii) and 622.22 (a)(3)(iii). The change would remove the wording `sequentially coded' from the sentence `NMFS will provide each Individual Fishing Quota (IFQ) dealer the necessary paper forms, sequentially coded, and instructions for submission of the forms to the RA'.

Timetable:

Action | Date | FR Cite
NPRM | 07/28/20 | 85 FR 45363
NPRM Comment Period End | 08/27/20 |
Final Rule | 02/24/21 | 86 FR 11152
Final Rule Effective | 03/26/21 |
Final Action; Announcement of Effectiveness for VMS Requirement | 05/00/21 |

Regulatory Flexibility Analysis Required: Yes.

Agency Contact: Andrew J. Strelcheck, Acting Regional Administrator, Southeast Region, Department of Commerce, National Oceanic and Atmospheric Administration, 263 13th Avenue South, St. Petersburg, FL 33701, Phone: 727 824-5305, Email: andy.strelcheck@noaa.gov.

RIN: 0648-BJ60

48. Framework Adjustment 8 to the Atlantic Herring Fishery Management Plan

Legal Authority: 16 U.S.C. 1801 et seq.

Abstract: In response to action by the New England Fishery Management Council based on the most recent stock assessment, this rulemaking action would set 2021-2023 fishing year specifications and adjust current herring measures. Changes in herring specifications may impact the Atlantic mackerel fishery because the fisheries often operate concurrently. Accordingly, this action would adjust current measures by providing more flexibility to participants in the Atlantic herring fishery in order to facilitate increased participation in the Atlantic mackerel fishery. The objectives of this action are to meet the overall goal of the Atlantic Herring Fishery Management Plan of managing the Atlantic herring fishery at long-term sustainable levels consistent with the National Standards of the Magnuson-Stevens Fishery Conservation and Management Act.

Timetable:

Action | Date | FR Cite
Interim Final Rule Effective | 03/29/21 |
Interim Final Rule | 04/01/21 | 86 FR 17081
Final Action | 06/00/21 |

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BK11

49. • Framework Adjustment 33 to the Atlantic Sea Scallop Fishery Management Plan

Legal Authority: 16 U.S.C. 1801 et seq.

Abstract: At the January 2021 meeting of the New England Fishery Management Council, members voted to submit Framework 33 to NOAA's National Marine Fisheries Service (NMFS). Pursuant to section 304(a) of the Magnuson-Stevens Fishery Conservation and Management Act, NMFS is drafting an interim final rule to approve and implement Framework 33. The purpose of Framework 33 is to set management measures for the scallop fishery for the 2021 fishing year, the annual catch limits for the limited access and limited access general category fleets, as well as days-at-sea allocations and sea scallop access area trip allocations. Framework 33 implements specifications that would result in a reduction in projected landings as compared to fishing year 2020 (40.0 million pounds for fishing year 2021 compared to 51.6 million pounds for fishing year 2020). This is due to a decrease in harvestable biomass and a lack of significant recruitment in recent years. Because of this, the economic impacts of the Framework 33 fishery specifications are expected to be negative for the scallop vessels and small business entities compared to fishing year 2020. Furthermore, Framework 33 would maintain the existing seasonal closure in Closed Area II to reduce bycatch of Georges Bank yellowtail flounder and northern windowpane flounder, and close areas to fishing to protect small scallops and reduce bycatch of flatfish.

Timetable:

Action | Date | FR Cite
Interim Final Rule | 05/00/21 |

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BK51

50. • Magnuson-Stevens Act Provisions; Fisheries off West Coast States; Emergency Action To Change Seasonal Processing Limitations in the At-Sea Whiting Fishery

Legal Authority: 16 U.S.C. 1801 et seq.

Abstract: On March 9, 2021 the Pacific Fishery Management Council (the Council) requested National Marine Fisheries Service (NMFS) initiate an emergency action to temporarily allow at-sea Pacific whiting processing platforms to operate as both a mothership (MS) and a catcher-processor (C/P) during the 2021 Pacific whiting fishery. The Pacific Coast Groundfish Fishery Management Plan prohibits vessels in the at-sea Pacific whiting sector from operating as both a MS and C/P during the same calendar year. At the March 2021 Council meeting, members of the Pacific whiting industry submitted a letter requesting the Council and NMFS take emergency action to lift this restriction in response to impacts to fishing operations from the ongoing COVID-19 pandemic. During the 2020 whiting season, several at-sea processing vessels were forced to cease operations due to COVID-19 outbreaks onboard resulting in delays and lost processing capacity. In response, NMFS issued an emergency rule in June of 2020 to allow whiting vessels to operate as both a MS and C/P in the same calendar year. However, it was unforeseen that whiting fishery participants would still be dealing with effects of a COVID-19 pandemic a year later. There is continued risk to whiting vessels and loss of processing capacity should a COVID-19 outbreak occur onboard a processing platform. Because of this risk and uncertainty, members of industry and the Council Groundfish Advisory Panel (GAP) recommended the Council take emergency action to allow available vessels to operate as either type of processing platform for the 2021 fishing year and avoid potential economic hardships. This emergency action would temporarily allow eligible MS and C/P vessels to operate as both a MS and C/P during the 2021 Pacific whiting fishing year, instead of opting into a single sector at the beginning of the season. However, vessels would continue to not be allowed to operate as both an MS and C/P on the same fishing trip. In the event of a COVID-19 outbreak onboard one platform, this flexibility could allow other processing platforms to process to harvest MS sector whiting allocations at-sea whiting catcher vessels would not otherwise be able to deliver to a MS vessel.

NMFS has considered this action under E.O. 12866. Based on that review, this action is not expected to have an annual effect on the economy of $100 million or more, or have an adverse effect in a material way on the economy. Furthermore, this action would not create a serious inconsistency or otherwise interfere with an action taken or planned by another agency; or materially alter the budgetary impact of entitlements, grants, user fees, or loan programs or the rights and obligations of recipients thereof; or raise novel or policy issues arising out of legal mandates, the President's priorities, or the principles set forth in this E.O.

Timetable:

Action | Date | FR Cite
Final Action | 05/00/21 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BK52

51. Reducing Disturbances to Hawaiian Spinner Dolphins From Human Interactions

Legal Authority: 16 U.S.C. 1361 et seq.

Abstract: This action implements regulatory measures under the Marine Mammal Protection Act to protect Hawaiian spinner dolphins that are resting in protected bays from take due to close approach interactions with humans.

Timetable:

Action | Date | FR Cite
ANPRM | 12/12/05 | 70 FR 73426
ANPRM Comment Period End | 01/11/06 |
NPRM | 08/24/16 | 81 FR 57854
NPRM Comment Period End | 10/23/16 |
NPRM Comment Period Reopened | 11/16/16 | 81 FR 80629
NPRM Comment Period Reopened End | 12/01/16 |
Final Action | 05/00/21 |

Regulatory Flexibility Analysis Required: Yes.

Agency Contact: Catherine Marzin, Acting Director, Office of Protected Resources, Department of Commerce, National Oceanic and Atmospheric Administration, 1315 East-West Highway, Silver Spring, MD 20910, Phone: 301 427-8400.

RIN: 0648-AU02

52. Designation of Critical Habitat for the Arctic Ringed Seal

Legal Authority: 16 U.S.C. 1531 et seq.

Abstract: The National Marine Fisheries Service published a final rule to list the Arctic ringed seal as a threatened species under the Endangered Species Act (ESA) in December 2012. The ESA requires designation of critical habitat at the time a species is listed as threatened or endangered, or within one year of listing if critical habitat is not then determinable. This rulemaking would designate critical habitat for the Arctic ringed seal. The critical habitat designation would be in the northern Bering, Chukchi, and Beaufort seas within the current range of the species.

Timetable:

Action | Date | FR Cite
NPRM | 12/03/14 | 79 FR 71714
Proposed Rule | 12/09/14 | 79 FR 73010
Notice of Public Hearings | 01/13/15 | 80 FR 1618
Comment Period Extended | 02/02/15 | 80 FR 5498
Proposed Rule 2 | 01/08/21 | 86 FR 1452
Proposed Rule 2 Comment Period End | 03/09/21 |
Public Hearing | 02/01/21 | 86 FR 7686
Public Hearing Comment Period End | 03/09/21 |
Comment Period Extended 2 | 03/09/21 | 86 FR 13517
Comment Period Extended 2 End | 04/08/21 |
Final Action | 03/00/22 |

Regulatory Flexibility Analysis Required: Yes.

Agency Contact: Catherine Marzin, Acting Director, Office of Protected Resources, Department of Commerce, National Oceanic and Atmospheric Administration, 1315 East-West Highway, Silver Spring, MD 20910, Phone: 301 427-8400.

RIN: 0648-BC56

53. Amendment and Updates to the Pelagic Longline Take Reduction Plan

Legal Authority: 16 U.S.C. 1361 et seq.

Abstract: Serious injury and mortality of the Western North Atlantic short-finned pilot whale stock incidental to the Category I Atlantic pelagic longline fishery continues at levels exceeding their Potential Biological Removal. This proposed action would examine a number of management measures to amend the Pelagic Longline Take Reduction Plan to reduce the incidental mortality and serious injury of short-finned pilot whales taken in the Atlantic Pelagic Longline fishery to below Potential Biological Removal. Potential management measures may include changes to the current limitations on mainline length, new requirements to use weak hooks (hooks with reduced breaking strength), and non-regulatory measures related to determining the best procedures for safe handling and release of marine mammals. The need for the proposed action is to ensure the Pelagic Longline Take Reduction Plan meets its Marine Mammal Protection Act mandated short- and long-term goals.

Timetable:

Action | Date | FR Cite
NPRM | 12/15/20 | 85 FR 81168
NPRM Comment Period End | 02/16/21 |
Final Action | 12/00/21 |

Regulatory Flexibility Analysis Required: Yes.

Agency Contact: Catherine Marzin, Acting Director, Office of Protected Resources, Department of Commerce, National Oceanic and Atmospheric Administration, 1315 East-West Highway, Silver Spring, MD 20910, Phone: 301 427-8400.

RIN: 0648-BF90

54. Designation of Critical Habitat for the Threatened Caribbean Corals

Legal Authority: 16 U.S.C. 1531 et seq.

Abstract: NMFS listed 5 Caribbean corals as threatened under the Endangered Species Act on October 10, 2014. Critical habitat shall be designated to the maximum extent prudent and determinable at the time a species is proposed for listing (50 CFR 424.12). We concluded that critical habitat was not determinable for the 5 corals at the time of listing. However, we anticipated that critical habitat would be determinable in the future given on-going research. We, therefore, announced in the final listing rules that we would propose critical habitat in separate rulemakings. This rule proposes to designate critical habitat for the 5 Caribbean coral species listed in 2014. A separate proposed critical habitat rule is being prepared for the 15 Indo-Pacific corals listed as threatened in 2014. The proposed designation for the Caribbean corals may include marine waters in Florida, Puerto Rico, US Virgin Islands, Navassa Island, and Flower Garden Banks containing essential features that support all stages of life history of the corals. The proposed rule is not likely to have an annual effect on the economy of $100 million or more or adversely affect the economy. NMFS has contacted the Departments of the Navy, Air Force, and Army as well as the U.S. Coast Guard requesting information related to potential national security impacts that may result from the critical habitat designation. Based on information provided, we concluded that there will be an impact on national security in only 1 area offshore Dania Beach, FL, and will propose to exclude it from the designations.

Timetable:

Action | Date | FR Cite
NPRM | 11/27/20 | 85 FR 76302
NPRM Comment Period End | 01/26/21 |
Final Rule | 11/00/21 |

Regulatory Flexibility Analysis Required: Yes.

Agency Contact: Catherine Marzin, Acting Director, Office of Protected Resources, Department of Commerce, National Oceanic and Atmospheric Administration, 1315 East-West Highway, Silver Spring, MD 20910, Phone: 301 427-8400.

RIN: 0648-BG26

55. Revision to Critical Habitat Designation for Endangered Southern Resident Killer Whales

Legal Authority: 16 U.S.C. 1531 et seq.

Abstract: The proposed action would revise the designation of critical habitat for the endangered Southern Resident killer whale distinct population segment, pursuant to section 4 of the Endangered Species Act. Critical habitat for this population is currently designated within inland waters of Washington. In response to a 2014 petition, NMFS is proposing to expand the designation to include areas occupied by Southern Resident killer whales in waters along the U.S. West Coast. Impacts from the designation would stem mainly from Federal agencies' requirement to consult with NMFS, under section 7 of the Endangered Species Act, to ensure that any action they carry out, permit (authorize), or fund will not result in the destruction or adverse modification of critical habitat of a listed species. Federal agencies are already required to consult on effects to the currently designated critical habitat in inland waters of Washington, but consultation would be newly required for actions affecting the expanded critical habitat areas. Federal agencies are also already required to consult within the Southern Resident killer whales' range (including along the U.S. West Coast) to ensure that any action they carry out, permit, or fund will not jeopardize the continued existence of the species; this requirement would not change with a revision to the critical habitat designation.

Timetable:

Action | Date | FR Cite
NPRM | 09/19/19 | 84 FR 49214
NPRM Comment Period End | 12/18/19 |
Final Rule | 07/00/21 |

Regulatory Flexibility Analysis Required: Yes.

Agency Contact: Catherine Marzin, Acting Director, Office of Protected Resources, Department of Commerce, National Oceanic and Atmospheric Administration, 1315 East-West Highway, Silver Spring, MD 20910, Phone: 301 427-8400.

RIN: 0648-BH95

56. Atlantic Large Whale Take Reduction Plan Modifications To Reduce Serious Injury and Mortality of Large Whales in Commercial Trap/Pot Fisheries Along the U.S. East Coast

Legal Authority: 16 U.S.C. 1387 et seq.

Abstract: In response to recent recommendations from the Atlantic Large Whale Take Reduction Team (TRT) to reduce the risk of North Atlantic right whale entanglement in commercial trap/pot fisheries along the U.S. East Coast, the National Marine Fisheries Service (NMFS) intends to propose regulations to amend the Atlantic Large Whale Take Reduction Plan (Plan).

Timetable:

Action | Date | FR Cite
NPRM | 12/31/20 | 85 FR 86878
NPRM Comment Period End | 03/01/21 |
Final Action | 07/00/21 |

Regulatory Flexibility Analysis Required: Yes.

Agency Contact: Catherine Marzin, Acting Director, Office of Protected Resources, Department of Commerce, National Oceanic and Atmospheric Administration, 1315 East-West Highway, Silver Spring, MD 20910, Phone: 301 427-8400.

RIN: 0648-BJ09

57. Designation of Critical Habitat for Threatened Indo-Pacific Reef-Building Corals

Legal Authority: 16 U.S.C. 1531 et seq.

Abstract: On September 10, 2014, NMFS listed 20 species of reef-building corals as threatened under the Endangered Species Act, 15 in the Indo-Pacific and five in the Caribbean. Of the 15 Indo-Pacific species, seven occur in U.S. waters of the Pacific Islands Region, including in American Samoa, Guam, the Commonwealth of the Mariana Islands, and the Pacific Remote Island Areas. This proposed rule would designate critical habitat for the seven species in U.S. waters (Acropora globiceps, Acropora jacquelineae, Acropora retusa, Acropora speciosa, Euphyllia paradivisa, Isopora crateriformis, and Seriatopora aculeata). A separate proposed rule will designate critical habitat for the listed Caribbean coral species. The proposed designation may cover coral reef habitat around 13 island or atoll units in the Pacific Islands Region, including three in American Samoa, one in Guam, seven in the Commonwealth of the Mariana Islands, and two in Pacific Remote Island Areas, containing essential features that support reproduction, growth, and survival of the listed coral species. NMFS has contacted the Departments of the Navy, Air Force, and Army as well as the U.S. Coast Guard requesting information related to potential national security impacts that may result from the critical habitat designation. Based on information provided, we will determine whether to propose to exclude any areas based on national security impacts.

Timetable:

Action | Date | FR Cite
NPRM | 11/27/20 | 85 FR 76262
NPRM Comment Period End | 01/26/21 |
NPRM Comment Period Extended | 12/23/20 | 85 FR 83899
NPRM Comment Period Extended End | 02/25/21 |
Second NPRM Comment Period Extended | 02/09/21 | 86 FR 8749
Second Extended Comment Period End | 03/27/21 |
Final Rule | 11/00/21 |

Regulatory Flexibility Analysis Required: Yes.

Agency Contact: Catherine Marzin, Acting Director, Office of Protected Resources, Department of Commerce, National Oceanic and Atmospheric Administration, 1315 East-West Highway, Silver Spring, MD 20910, Phone: 301 427-8400.

RIN: 0648-BJ52

58. Designation of Critical Habitat for the Beringia Distinct Population Segment of the Bearded Seal

Legal Authority: 16 U.S.C. 1531 et seq.

Abstract: NMFS published a final rule to list the Beringia Distinct Population Segment (DPS) of bearded seals as a threatened species under the Endangered Species Act (ESA) in December 2012, thereby triggering the requirement under section 4 of the ESA to designate critical habitat for the Beringia DPS to the maximum extent prudent and determinable. NMFS has already initiated rulemaking to establish critical habitat for Arctic ringed seals, which were also listed as threatened under the ESA in December 2012, and that action is proceeding separately. This rulemaking action proposes to designate critical habitat in areas occupied by bearded seals in U.S. waters over the continental shelf in the northern Bering, Chukchi, and Beaufort Seas. Impacts from the designation of critical habitat for Beringia DPS bearded seals would stem from the statutory requirement that Federal agencies consult with NMFS under section 7 of the ESA to ensure that any action they carry out, authorize, or fund is not likely to result in the destruction or adverse modification of bearded seal critical habitat. Federal agencies are already required to consult with NMFS under section 7 of the ESA to ensure that any action they authorize, fund, or carry out is not likely to jeopardize the continued existence of the Beringia DPS of bearded seals.

Timetable:

Action | Date | FR Cite
NPRM | 01/08/21 | 86 FR 1433
NPRM Comment Period End | 03/09/21 |
Public Hearing | 02/01/21 | 86 FR 7686
Public Hearing Comment Period End | 03/09/21 |
Comment Period Extended | 03/09/21 | 86 FR 13518
Comment Period Extended End | 04/08/21 |
Final Action | 03/00/22 |

Regulatory Flexibility Analysis Required: Yes.

Agency Contact: Catherine Marzin, Acting Director, Office of Protected Resources, Department of Commerce, National Oceanic and Atmospheric Administration, 1315 East-West Highway, Silver Spring, MD 20910, Phone: 301 427-8400.

RIN: 0648-BJ65

NOS/ONMS

59. Wisconsin-Lake Michigan National Marine Sanctuary Designation

Legal Authority: 16 U.S.C. 1431 et seq.

Abstract: On December 2, 2014, pursuant to section 304 of the National Marine Sanctuaries Act and the Sanctuary Nomination Process (79 FR 33851), a coalition of community groups submitted a nomination asking NOAA to designate an area of Wisconsin's Lake Michigan waters as a national marine sanctuary. The area is a region that includes 875 square miles of Lake Michigan waters and bottomlands adjacent to Manitowoc, Sheboygan, and Ozaukee counties and the cities of Port Washington, Sheboygan, Manitowoc, and Two Rivers. It includes 80 miles of shoreline and extends 9 to 14 miles from the shoreline. The area contains an extraordinary collection of submerged maritime heritage resources (shipwrecks) as demonstrated by the listing of 15 shipwrecks on the National Register of Historic Places. The area includes 39 known shipwrecks, 123 reported vessel losses, numerous other historic maritime-related features, and is adjacent to communities that have embraced their centuries-long relationship with Lake Michigan. NOAA completed its review of the nomination in accordance with the Sanctuary Nomination Process and on February 5, 2015, added the area to the inventory of nominations that are eligible for designation. On October 7, 2015, NOAA issued a notice of intent to begin the designation process and asked for public comment on making this area a national marine sanctuary. Designation under the National Marine Sanctuaries Act would allow NOAA to supplement and complement work by the State of Wisconsin and other Federal agencies to protect this collection of nationally significant shipwrecks.

Timetable:

Action | Date | FR Cite
NPRM | 01/09/17 | 82 FR 2269
NPRM Comment Period End | 03/31/17 |
Final Action | 06/00/21 |

Regulatory Flexibility Analysis Required: Yes.

Agency Contact: Russ Green, Department of Commerce, National Oceanic and Atmospheric Administration, 1401 Constitution Avenue, Washington, DC 20230, Phone: 989 766-3359, Email: russ.green@noaa.gov.

Jessica Kondel, Policy and Planning Division Division Chief, Department of Commerce, National Oceanic and Atmospheric Administration, 1305 East West Highway, Building SSMC4, Silver Spring, MD 20910, Phone: 240 533-0647.

RIN: 0648-BG01

DEPARTMENT OF COMMERCE (DOC)

National Oceanic and Atmospheric Administration (NOAA)

Long-Term Actions

National Marine Fisheries Service

60. Implementation of a Program for Transshipments by Large Scale Fishing Vessels in the Eastern Pacific Ocean

Legal Authority: 16 U.S.C. 951 et seq.; 16 U.S.C. 971 et seq.

Abstract: This rule would implement the Inter-American Tropical Tuna Commission program to monitor transshipments by large-scale tuna fishing vessels, and would govern transshipments by U.S. large-scale tuna fishing vessels and carrier, or receiving, vessels. The rule would establish: criteria for transshipping in port; criteria for transshipping at sea by longline vessels to an authorized carrier vessel with an Inter-American Tropical Tuna Commission observer onboard and an operational vessel monitoring system; and require the Pacific Transshipment Declaration Form, which must be used to report transshipments in the Inter-American Tropical Tuna Commission Convention Area. This rule is necessary for the United States to satisfy its international obligations under the 1949 Convention for the Establishment of an Inter-American Tropical Tuna, to which it is a Contracting Party.

Timetable: Next Action Undetermined.

Regulatory Flexibility Analysis Required: Yes.

Agency Contact: Barry Thom, Phone: 503 231-6266, Email: barry.thom@noaa.gov.

RIN: 0648-BD59

61. Amendment 111 to the Fishery Management Plan for Groundfish of the Gulf of Alaska To Reauthorize the Central Gulf of Alaska Rockfish Program

Legal Authority: 16 U.S.C. 1801 et seq.

Abstract: In response to a recommendation by the North Pacific Fishery Management Council, this action implements Amendment 111 to the Fishery Management Plan for the Gulf of Alaska. This action would reauthorize the Central Gulf of Alaska (CGOA) Rockfish Program (RP) fisheries and modify specific implementing regulations to improve program effectiveness and efficiency. This action includes the following revisions to the RP: Remove the RP sunset date; authorize NMFS to reallocate unharvested RP Pacific cod and unused rockfish incidental catch allowances; remove specific harvesting limits created under the Crab Rationalization Program prior to the implementation of the RP; and remove or modify equipment and reporting requirements to improve operational efficiency, clarify regulations and remove unnecessary requirements. This action allows for the continued existence of the successful CGOA RP and maintains the benefits realized under the program. This action also builds upon the existing benefits of the RP by implementing minor regulatory changes that improve clarity, consistency and removes unnecessary regulatory requirements.

Timetable:

Action | Date | FR Cite
Notice of Availability | 07/28/20 | 85 FR 45367
NPRM | 09/04/20 | 85 FR 55243
NPRM Comment Period End | 10/05/20
Final Rule | 03/01/21 | 86 FR 11895
Final Rule Effective | 03/31/21
Next Action Undetermined

Regulatory Flexibility Analysis Required: Yes.

Agency Contact: James Balsiger, Phone: 907 586-7221, Fax: 907 586-7465, Email: jim.balsiger@noaa.gov.

RIN: 0648-BJ73

DEPARTMENT OF COMMERCE (DOC)

National Oceanic and Atmospheric Administration (NOAA)

Completed Actions

62. Area of Overlap Between the Convention Areas of the Inter-American Tropical Tuna Commission and the Western and Central Pacific Fisheries Commission

Legal Authority: 16 U.S.C. 6901 et seq.; 16 U.S.C. 951 et seq.

Abstract: Under authority of the Western and Central Pacific Fisheries Convention Implementation Act and the Tuna Conventions Act, an area of overlap (overlap area) exists between the respective areas of competence of the Commission for the Conservation and Management of Highly Migratory Fish Stocks in the Western and Central Pacific Ocean and the Inter-American Tropical Tuna Commission. NMFS proposes to change the application of the two Commissions' management decisions in the overlap area to specifically apply Inter-American Tropical Tuna Commission management measures in the overlap area rather than those of the Commission for the Conservation and Management of Highly Migratory Fish Stocks in the Western and Central Pacific Ocean that currently apply there.

Timetable:

Action | Date | FR Cite
ANPRM | 06/12/18 | 83 FR 27305
ANPRM Comment Period End | 07/12/18
NPRM | 11/07/19 | 84 FR 60040
NPRM Comment Period End | 11/22/19
Final Rule | 06/22/20 | 85 FR 37376
Final Rule Effective | 07/22/20
Final Action; Announcement of Effectiveness of Collection-of-Information Requirements | 03/23/21 | 86 FR 15428

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BH59

63. Atlantic Highly Migratory Species; Regulatory Amendment for the Management of Atlantic Swordfish

Legal Authority: 16 U.S.C. 1801 et seq.

Abstract: Upon recommendation of the HMS Advisory Panel, this action would modify existing management measures for North Atlantic swordfish under the 2006 Consolidated FMP in U.S. Atlantic and Caribbean waters. This rulemaking would increase default retention limits for the Commercial Caribbean Small Boat (CCSB) and Swordfish General Commercial permits and adding inseason adjustment criteria for the CCSB permits. This proposed action is intended to provide additional opportunities to more fully harvest the U.S. North Atlantic swordfish quota, which has been significantly under harvested for many years.

Timetable:

Action | Date | FR Cite
NPRM | 04/27/20 | 85 FR 23315
NPRM Comment Period End | 06/26/20
Final Action | 04/30/21 | 86 FR 22882
Final Action Effective | 06/01/21

Regulatory Flexibility Analysis Required: Yes.

Agency Contact: Kelly Denit, Director, Office of Sustainable Fisheries, Department of Commerce, National Oceanic and Atmospheric Administration, 1315 East-West Highway, Room 13362, Silver Spring, MD 20901, Phone: 301 427-8500, Email: kelly.denit@noaa.gov.

RIN: 0648-BI09

64. Amendment 8 to the Atlantic Herring Fishery Management Plan

Legal Authority: 16 U.S.C. 1801 et seq.

Abstract: In response to a recommendation by the New England Fishery Management Council, this action implements measures for a long-term acceptable biological catch (ABC) control rule to address the biological and ecological requirements of the Atlantic herring stock, including explicitly accounting for Atlantic herring's role in the ecosystem, and minimizing localized depletion and user group conflict when effort in the Atlantic herring fishery overlaps (spatially and temporally) with effort in fisheries targeting predators of Atlantic herring (e.g., tuna, groundfish) or ecotourism industries. Specifically, this action implements a control rule generating an ABC intended to meet specific criteria identified by the New England Fishery Management Council, including low variability in yield, low probability of the stock becoming overfished, low probability of a fishery shutdown, and catch limits set at a relatively high proportion of maximum sustainable yield. This action would specify that ABC would be set for a 3-year period, but would allow ABC to vary year-to-year in response to projected changes in biomass.

Timetable:

Action | Date | FR Cite
Notice of Availability | 08/21/19 | 84 FR 43573
NPRM | 10/09/19 | 84 FR 54094
NPRM Comment Period End | 11/25/19
Final Action | 01/11/21 | 86 FR 1810
Final Action Effective | 02/10/21

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BI80

65. Amendment 21 to the Summer Flounder, Scup, and Black Sea Bass Fishery Management Plan

Legal Authority: 16 U.S.C. 1801 et seq.

Abstract: This rulemaking action implements measures recommended by the Mid-Atlantic Fishery Management Council and Atlantic States Marine Fisheries Commission that would adjust the current state-by-state commercial quota allocations in the summer flounder fishery and update the goals and objective for summer flounder fishery management in the Summer Flounder, Scup, and Black Sea Bass Fishery Management Plan (FMP). The revised quota allocation would maintain the current state-by-state allocation percentages when distributing the annual coastwide quota up to 9.55 million pounds. In years when the coastwide quota is above 9.55 million pounds, additional quota beyond this trigger would be distributed in equal shares to all states except Maine, Delaware, and New Hampshire (i.e., states with very little directed fishing effort), which would split one percent of the additional quota. The current state-by-state quota allocations have not been adjusted since originally implemented in 1993. The intent of this amendment is to modify the allocations to respond to changes in summer flounder distribution while also recognizing the states' historical reliance on summer flounder. The Council and Board intend to review the adjusted quota allocations again in no more than 10 years.

Timetable:

Action | Date | FR Cite
Notice of Availability | 07/29/20 | 85 FR 45571
NPRM | 08/12/20 | 85 FR 48660
NPRM Comment Period End | 09/11/20
Final Action | 12/14/20 | 85 FR 80661
Final Action Effective | 01/01/21

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BJ18

66. Salmon Bycatch Minimization in the Pacific Coast Groundfish Fishery

Legal Authority: 16 U.S.C. 1801 et seq.

Abstract: The proposed action would implement salmon bycatch minimization measures in the Pacific Coast groundfish fishery to comply with the terms and conditions of a December 2017 biological opinion on Endangered Species Act-listed salmon interactions in the groundfish fishery. The proposed action would establish additional management tools (e.g. area-based closures and gear restrictions) the Council and NMFS could use as needed to keep fishery sectors within Chinook and coho salmon bycatch guidelines as established in a prior rulemaking. The proposed action would establish the rules or circumstances under which the fishery sectors would be allowed to access an established salmon bycatch Reserve. Under the proposed action, NMFS is required to take an action before fishery participants can access the Reserve; such action may include implementation of a measure such as an area-based closure or gear restriction, or approval of a plan outlining how a whiting cooperative will minimize its salmon bycatch. Finally, the proposed action would change the bycatch levels at which the trawl fishery would be closed in order to preserve 500 Chinook salmon as bycatch so that the recreational and fixed gear fisheries could continue operating in years of high trawl fishery bycatch.

Timetable:

Action | Date | FR Cite
NPRM | 10/20/20 | 85 FR 66519
NPRM Comment Period End | 11/19/20
Final Rule | 02/23/21 | 86 FR 10857
Final Rule Effective | 03/25/21
Final Rule; Collection of Information | 04/29/21 | 86 FR 22587
Final Rule; Collection of Information Effective Date | 04/29/21

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BJ50

67. International Fisheries; Pacific Tuna Fisheries; Fishing Restrictions for Tropical Tuna in the Eastern Pacific Ocean for 2021

Legal Authority: 16 U.S.C. 951 et seq.

Abstract: NMFS is issuing regulations under the Tuna Conventions Act to implement Resolution C-20-05 (Conservation of Tuna in the Eastern Pacific Ocean During 2021), which was adopted by the Inter-American Tropical Tuna Commission (IATTC or Commission) on December 22, 2020. All of the provisions of Resolution C-20-05 are identical in content to the previous resolution on tropical tuna management that expired at the end of 2020. This interim final rule implements the C-20-05 fishing management measures for tropical tuna (i.e., bigeye tuna (Thunnus obesus), yellowfin tuna (Thunnus albacares), and skipjack tuna (Katsuwonus pelamis)) in the eastern Pacific Ocean (EPO). The fishing restrictions in this interim final rule are applicable in 2021 only and apply to purse seine vessels of class sizes 46 (carrying capacity of 182 metric tons (mt) or greater) and longline vessels greater than 24 meters (m) in overall length that fish for tropical tuna in the EPO. This interim final rule is necessary for the conservation of tropical tuna stocks in the EPO and for the United States to satisfy its obligations as a member of the IATTC.

Timetable:

Action | Date | FR Cite
Interim Final Rule | 01/19/21 | 86 FR 5033
Interim Final Rule Effective | 01/19/21
Interim Final Rule Comment Period End | 02/18/21

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BK08

68. Taking and Importing Marine Mammals: Taking Marine Mammals Incidental to Geophysical Surveys Related to Oil and Gas Activities in the Gulf of Mexico

Legal Authority: 16 U.S.C. 1361 et seq.

Abstract: The National Marine Fisheries Service is taking this action in response to an October 17, 2016, petition from the U.S. Department of Interior (DOI), Bureau of Ocean Energy Management (BOEM), to promulgate regulations governing the authorization of take of marine mammals incidental to oil and gas industry geophysical surveys conducted in support of hydrocarbon exploration and development on the Outer Continental Shelf in the Gulf of Mexico from approximately 2021 through 2026.

Timetable:

Action | Date | FR Cite
NPRM | 06/22/18 | 83 FR 29212
NPRM Comment Period End | 08/21/18
Final Rule | 01/19/21 | 86 FR 5322
Final Rule; Correction | 04/09/21 | 86 FR 18476
Final Rule; Correction Effective | 04/09/21
Final Rule Effective | 04/19/21

Regulatory Flexibility Analysis Required: Yes.

Agency Contact: Catherine Marzin, Acting Director, Office of Protected Resources, Department of Commerce, National Oceanic and Atmospheric Administration, 1315 East-West Highway, Silver Spring, MD 20910, Phone: 301 427-8400.

RIN: 0648-BB38

69. Designation of Critical Habitat for the Mexico, Central American, and Western Pacific Distinct Population Segments of Humpback Whales Under the Endangered Species Act

Legal Authority: 16 U.S.C. 1531 et seq.

Abstract: This action will propose the designation of critical habitat for three distinct population segments of humpback whales (Megaptera novaeangliae) pursuant to section 4 of the Endangered Species Act. The three distinct population segments of humpback whales concerned—the Mexico, Central American, and Western Pacific distinct population segments—were listed under the Endangered Species Act on September 8, 2016, thereby triggering the requirement under section 4 of the Endangered Species Act to designate critical habitat to the maximum extent prudent and determinable. Proposed critical habitat for these three distinct population segments of humpback whales will include marine habitats within the Pacific Ocean and Bering Sea and will likely overlap with several existing designations, including critical habitat for leatherback sea turtles, North Pacific right whales, Steller sea lions, southern resident killer whales, and the southern distinct population segment of green sturgeon. Impacts from the designations for humpback whales would stem from the statutory requirement for Federal agencies to consult with NMFS, under section 7 of the Endangered Species Act, to ensure that any action they carry out, authorize, or fund will not result in the destruction or adverse modification of humpback whale critical habitat. Within many of the areas we are evaluating for potential proposal as critical habitat for the humpback whales distinct population segments, Federal agencies are already required to consult on effects to currently designated critical habitat for other listed species. Federal agencies are also already required to consult with NMFS under section 7 of the Endangered Species Act to ensure that any action they authorize, fund or carry out will not jeopardize the continued existence of the listed distinct population segments of humpback whales.

Timetable:

Action | Date | FR Cite
NPRM | 10/09/19 | 84 FR 54354
NPRM Comment Period End | 12/09/19
NPRM Comment Period Extended | 11/27/19 | 84 FR 65346
NPRM Comment Period Extended End | 01/31/20
Final Action | 04/21/21 | 86 FR 21082
Final Action Effective | 05/21/21

Regulatory Flexibility Analysis Required: Yes.

Agency Contact: Catherine Marzin, Acting Director, Office of Protected Resources, Department of Commerce, National Oceanic and Atmospheric Administration, 1315 East-West Highway, Silver Spring, MD 20910, Phone: 301 427-8400.

RIN: 0648-BI06

DEPARTMENT OF COMMERCE (DOC)

Patent and Trademark Office (PTO)

Proposed Rule Stage

70. • Changes To Implement Provisions of the Trademark Modernization Act of 2020

Legal Authority: 15 U.S.C. 1066; 15 U.S.C. 1067; 15 U.S.C. 1113; 15 U.S.C. 1123; 35 U.S.C. 2; Pub. L. 112-29; Pub. L. 116-260

Abstract: The United States Patent and Trademark Office (USPTO) amends the rules of practice in trademark cases to implement provisions of the Trademark Modernization Act of 2020. The amended rules establish new ex parte expungement and reexamination proceedings; provide for flexible Office action response periods; and amend the letter-of-protest rule. The USPTO also amends the rules to set fees for petitions requesting initiation of the new ex parte cancellation proceedings and for requests to extend Office action response deadlines and to amend the rules concerning the suspension of USPTO proceedings and the rules governing attorney recognition in trademark matters.

Timetable:

Action | Date | FR Cite
NPRM | 05/00/21
NPRM Comment Period End | 07/00/21
Final Action | 11/00/21
Final Action Effective | 12/00/21

Regulatory Flexibility Analysis Required: Yes.

Agency Contact: Catherine Cain, Trademark Manual of Examining Procedure Editor, Department of Commerce, Patent and Trademark Office, P.O. Box 1451, Alexandria, VA 22313, Phone: 571 272-8946, Fax: 751 273-8946, Email: catherine.cain@uspto.gov.

RIN: 0651-AD55

DEPARTMENT OF COMMERCE (DOC)

Patent and Trademark Office (PTO)

Completed Actions

71. Trademark Fee Adjustment

Legal Authority: 15 U.S.C. 1066; 15 U.S.C. 1067; 15 U.S.C. 1113; 15 U.S.C. 1123; 35 U.S.C. 2; Pub. L. 112-29

Abstract: The United States Patent and Trademark Office (Office) takes this action to set and adjust Trademark fee amounts to provide the Office with a sufficient amount of aggregate revenue to recover its aggregate cost of operations while helping the Office maintain a sustainable funding model, ensure integrity of the Trademark register, and promote efficiency of processes.

Timetable:

Action | Date | FR Cite
NPRM | 06/19/20 | 85 FR 37040
NPRM Comment Period End | 08/03/20
Final Rule | 11/17/20 | 85 FR 73197
Final Rule; Delay of Effective Date | 12/15/20 | 85 FR 81123
Final Rule Effective | 02/18/21

Regulatory Flexibility Analysis Required: Yes.

Agency Contact: Catherine Cain, Trademark Manual of Examining Procedure Editor, Department of Commerce, Patent and Trademark Office, P.O. Box 1451, Alexandria, VA 22313, Phone: 571 272-8946, Fax: 751 273-8946, Email: catherine.cain@uspto.gov.

RIN: 0651-AD42

[FR Doc. 2021-14867 Filed 7-29-21; 8:45 am]

BILLING CODE 3410-12-P